DEPARTMENT OF LABOR

Employment and Training Administration

[TA-W-53,538 and TA-W-53,538A]

Allegheny Ludlum Corporation, Brackenridge Works, Brackenridge, PA and Allegheny Ludlum Corporation, Leechburg Works, Leechburg, PA; Dismissal of Application for Reconsideration

Pursuant to 29 CFR 90.18(C) an application for administrative reconsideration was filed with the Director of the Division of Trade Adjustment Assistance for workers at Allegheny Ludlum Corporation, Brackenridge Works, Brackenridge, Pennsylvania and Allegheny Ludlum Corporation, Leechburg Works, Leechburg, Pennsylvania. The application contained no new substantial information which would bear importantly on the Department's determination. Therefore, dismissal of the application was issued.

TA-W-53,538; Allegheny Ludlum Corporation, Brackenridge Works, Brackenridge, Pennsylvania

TA-W-53,538A; Allegheny Ludlum Corporation, Leechburg Works, Leechburg, Pennsylvania (April 28, 2004).

Signed at Washington, DC, this 3rd day of May 2004.
Timothy Sullivan,
Director, Division of Trade Adjustment Assistance.

[FR Doc. E4-1056 Filed 5-7-04; 8:45 am]

BILLING CODE 4510-13-P